DEPARTMENT OF THE INTERIOR

Bureau of Land Management

[AZ-330-08-1232-EA, AZ-SRP-330-07-01 and AZ-SRP-330-07-02]

Temporary Closure of Selected Public Lands in La Paz County, AZ

AGENCY: Bureau of Land Management, DOI.

ACTION: Temporary Closure of Selected Public Lands in La Paz County, Arizona, during the operation of the 2008 Parker 250 and Parker 425 Desert Races.

SUMMARY: The Bureau of Land Management (BLM) Lake Havasu Field Office announces the temporary closure of selected public lands under its administration in La Paz County, Arizona. This action is being taken to help ensure public safety and prevent unnecessary environmental degradation during the permitted running of the Best in the Desert 2008 Parker 250, and 2008 Blue Water Resort and Casino Parker 425 Desert Races. Areas subject to this closure include all public land; including county maintained roads and highways located on public lands that are located within two miles of the designated course. The race course and closure areas are described in the Supplementary Information section of this notice and maps of the designated race course are maintained in the Bureau of Land Management Lake Havasu Field Office, 2610 Sweetwater Avenue, Lake Havasu City, AZ 86406.

Event Dates: The Parker 250 on January 5, 2008, and the Parker 425 on February 2, 2008.

FOR FURTHER INFORMATION CONTACT: Michael Dodson, Field Staff Ranger, BLM Lake Havasu Field Office, 2610 Sweetwater Avenue, Lake Havasu City, Arizona 86406, (928) 505-1200.

SUPPLEMENTARY INFORMATION: Description of Race Course Closed Area: Beginning at the eastern boundary of the Colorado River Indian Tribe (CRIT) Reservation, the race course closed area runs east along Shea Road, then east into Osborne Wash on to the Parker-Swansea Road to the Central Arizona Project Canal (CAP), then north on the west side of the CAP Canal, crossing the canal on the county-maintained road, running northeast into Mineral Wash Canyon, then southeast on the county-maintained road, through the four-corners intersection to the Midway (Pit) intersection, then east on Transmission Pass Road, through State Trust Land located in Butler Valley, turning north into Cunningham Wash to North Tank; continuing back south to Transmission Pass Road and east (reentering public land) within two miles of Alamo Dam Road. The course turns south and west onto the wooden power line road, onto the State Trust Land in Butler Valley, turning southwest into Cunningham Wash to the Graham Well, intersecting Butler Valley Road, then north and west on the county-maintained road to the “Bouse Y” intersection, two miles north of Bouse, Arizona. The course proceeds north, paralleling the Bouse-Swansea Road to the Midway (Pit) intersection, then west along the north boundary (powerline) road of the East Cactus Plain Wilderness Area to Parker-Swansea Road. The course turns west into Osborne Wash crossing the CAP Canal, along the north boundary of the Cactus Plain Wilderness Study Area; it continues west staying in Osborne Wash and crossing Shea Road along the southern boundary of Gibraltar Wilderness, rejoining Osborne Wash to the CRIT Reservation boundary.

Times of the Temporary Land Closure: The Parker 250 Desert Race closure is in effect from 2 p.m. (MST) on Friday, January 4, 2008, through 6 p.m. (MST) on Saturday, January 5, 2008. The Blue Water Resort and Casino Parker 425 Desert Race closure is in effect from 2 p.m. (MST) on Friday, February 1, 2008, through 11:59 p.m. (MST) on Saturday, February 2, 2008.

Prohibited Acts: The following acts are prohibited during the temporary land closure:

1. Being present on, or driving on, the designated race course. Spectators may not be within 200 feet of the designated race course. This does not apply to race participants, race officials nor emergency vehicles authorized by or operated by local, State or Federal Government agencies. Emergency medical response shall only be conducted by personnel and vehicles operating under the guidance of La Paz County Emergency Medical Services (EMS) and Fire, or the Arizona Department of Public Safety (DPS), or the Bureau of Land Management (BLM).

2. Vehicle parking or stopping in areas affected by the closure, except where such is specifically allowed (designated spectator areas).

3. Camping in any area, except in the designated spectator areas.

4. Discharge of firearms.

5. Possession or use of any fireworks.

6. Cutting or collecting firewood of any kind, including dead and down wood or other vegetative material.

7. Operating any vehicle (except registered race vehicles), including off-highway vehicles, not registered and equipped for street and highway operation.

8. Operating any vehicle in the area of the closure at a speed of more than 35 mph. This does not apply to registered race vehicles during the race, while on the designated race course.

9. Failure to obey any official sign posted by the Bureau of Land Management, La Paz County, or the race promoter.

10. Parking any vehicle in a manner that obstructs or impedes normal traffic movement.

11. Failure to obey any person authorized to direct traffic, including law enforcement officers, BLM officials and designated race officials.

12. Failure to observe Spectator Area quiet hours of 10 p.m. to 6 a.m.

13. Failure to keep campsite or race viewing site free of trash and litter.

14. Allowing any pet or other animal to be unrestrained by a leash of not more than 6 feet in length.

The above restrictions do not apply to emergency vehicles owned by the United States, the State of Arizona, or La Paz County. Authority for closure of public lands is found in 43 CFR 8340, Subpart 8341; 43 CFR 8360, Subpart 8364.1; and 43 CFR 2930. Persons who violate this closure order are subject to arrest, and upon conviction may be fined not more than $100,000 and/or imprisoned for not more than 12 months.

Steven Politsch,
Field Manager, Lake Havasu Field Office.

[FR Doc. E7-22390 Filed 11-15-07; 8:45 am]

BILLING CODE 4310-$$-P